ENVIRONMENTAL PROTECTION AGENCY

[FRL-9120-4]

Science Advisory Board Staff Office; Notification of a Clean Air Scientific Advisory Committee (CASAC) Carbon Monoxide Review Panel Meeting and CASAC Teleconference

AGENCY: Environmental Protection Agency (EPA).

ACTION: Notice.

SUMMARY: The Environmental Protection Agency (EPA) Science Advisory Board (SAB) Staff Office announces a public meeting of the Clean Air Scientific Advisory Committee (CASAC) Carbon Monoxide Review Panel to peer review EPA's Risk and Exposure Assessment to Support the Review of the Carbon Monoxide Primary National Ambient Air Quality Standards: Second External Review Draft and EPA's Policy Assessment for the Review of the Carbon Monoxide National Ambient Air Quality Standards: External Review Draft. The chartered CASAC will subsequently hold a public teleconference to review and approve the Panel's reports.

DATES: The public meeting will be held on Monday, March 22, 2010 from 8:30 a.m. to 5 p.m. (Eastern Time) and Tuesday, March 23, 2010 from 8 a.m. to 3 p.m. (Eastern Time). The public teleconference will be held on April 19, 2010 from 10 a.m. to 1 p.m. (Eastern Time).

ADDRESSES: The public meeting will take place at the Marriott at Research Triangle Park, 4700 Guardian Drive, Durham, NC 27703, telephone (919) 941-6200. The April 19, 2010 teleconference will be conducted by telephone only.

FOR FURTHER INFORMATION CONTACT: Any member of the public who wishes to submit a written or brief oral statement or wants further information concerning the March 22 and 23, 2010 meeting may contact Ms. Kyndall Barry, Designated Federal Officer (DFO), EPA Science Advisory Board (1400F), U.S. Environmental Protection Agency, 1200 Pennsylvania Avenue, NW., Washington, DC 20460; via telephone/voice mail (202) 343-9868; fax (202) 233-0643; or e-mail at barry.kyndall@epa.gov. For information on the CASAC teleconference on April 19, 2010, please contact Dr. Holly Stallworth, Designated Federal Officer (DFO), at the above listed address; via telephone/voice mail (202) 343-9867 or e-mail at stallworth.holly@epa.gov. General information concerning the CASAC and the CASAC documents can be found on the EPA Web site at http://www.epa.gov/casac.

SUPPLEMENTARY INFORMATION: Background: Pursuant to the Federal Advisory Committee Act, Public Law 92-463 5 U.S.C., App. 2 (FACA), notice is hereby given that the CASAC Carbon Monoxide Panel will hold a public meeting to peer review two draft documents related to the NAAQS review for carbon monoxide and that the chartered CASAC will hold a public teleconference to review and approve the Panel's draft reports. The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC Panel and chartered CASAC will comply with the provisions of FACA and all appropriate SAB Staff Office procedural policies.

Section 109(d)(1) of the CAA requires that the Agency periodically review and revise, as appropriate, the air quality criteria and the National Ambient Air Quality Standard (NAAQS) for the six “criteria” air pollutants, including carbon monoxide (CO). EPA is conducting scientific assessments to review the primary (health-based) NAAQS for CO. CASAC has previously provided consultative advice on EPA's Plan for Review of the National Ambient Air Quality Standards for Carbon Monoxide, the first document in this review of the CO NAAQS. CASAC held a public meeting in Chapel Hill, North Carolina on May 12-13, 2009 (as announced in 74 FR 15265-15266) to review the first draft Integrated Science Assessment for Carbon Monoxide and provide consultative advice on the Carbon Monoxide National Ambient Air Quality Standards: Scope and Methods Plan for Risk and Exposure Assessment. CASAC reviewed the second draft Integrated Science Assessment for Carbon Monoxide and the first draft Risk and Exposure Assessment to Support the Review of the Carbon Monoxide Primary National Ambient Air Quality Standards during the November 16-17, 2009 public meeting (as announced in 74 FR 54042-54043). The CASAC advisory reports are available on the EPA Web site at http://www.epa.gov/casac.

The purpose of the March 22 and 23, 2010 meeting is for the CASAC Panel to conduct peer reviews of the Risk and Exposure Assessment to Support the Review of the Carbon Monoxide Primary National Ambient Air Quality Standards: Second External Review Draft and the Policy Assessment for the Review of the Carbon Monoxide National Ambient Air Quality Standards: External Review Draft recently issued by EPA's Office of Air and Radiation (OAR). The purpose of the Policy Assessment is to “bridge the gap” between the scientific information and the judgments required of the Administrator in determining whether it is appropriate to retain or revise the carbon monoxide standards. The draft Policy Assessment builds upon the key scientific and technical information contained in the Agency's final Integrated Science Assessment for Carbon Monoxide (January 2010), as well as the Risk and Exposure Assessment. The chartered CASAC will review and approve the Panel's draft reports by a public conference call on April 19, 2010.

Technical Contacts: Any questions concerning EPA's Risk and Exposure Assessment to Support the Review of the Carbon Monoxide Primary National Ambient Air Quality Standards: Second External Review Draft or Policy Assessment for the Review of the Carbon Monoxide National Ambient Air Quality Standards: External Review Draft should be directed to Dr. Deirdre Murphy, OAR, murphy.deirdre@epa.gov or (919) 541-0729 or Dr. Ines Pagan, OAR, at pagan.ines@epa.gov or (919) 541-5469.

Availability of Meeting Materials: Both EPA-OAR's Risk and Exposure Assessment to Support the Review of the Carbon Monoxide Primary National Ambient Air Quality Standards: Second External Review Draft and Policy Assessment for the Review of the Carbon Monoxide National Ambient Air Quality Standards: External Review Draft will be available at http://www.epa.gov/ttn/naaqs/standards/co/s_co_index.html. The agenda and other materials for the CASAC meetings will be posted on the SAB Web site at http://www.epa.gov/casac.

Procedures for Providing Public Input: Interested members of the public may submit relevant written or oral information for consideration on the topics included in this advisory activity. Oral Statements: To be placed on the public speaker list for the March 22 and 23, 2010 meeting, interested parties should notify Ms. Kyndall Barry, DFO, by e-mail no later than March 15, 2010. To be placed on the public speaker list for the April 19, 2010 teleconference, interested parties should notify Dr. Holly Stallworth, DFO, by e-mail no later than April 13, 2010. Individuals making oral statements will be limited to five minutes per speaker. Written Statements: Written statements for the March 22 and 23, 2010 meeting should be received in the SAB Staff Office by March 15, 2010, so that the information may be made available to the CASAC Panel for its consideration prior to this meeting. Written statements for the April 19, 2010 meeting should be received in the SAB Staff Office by April 13, 2010. Written statements should be supplied to the appropriate DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Ms. Barry at the phone number or e-mail address noted above, preferably at least ten days prior to the meeting, to give EPA as much time as possible to process your request.

Dated: February 23, 2010.
Anthony F. Maciorowski,
Deputy Director, EPA Science Advisory Board Staff Office.

[FR Doc. 2010-4141 Filed 2-26-10; 8:45 am]

BILLING CODE 6560-50-P